DEPARTMENT OF EDUCATION

National Advisory Committee on Institutional Quality and Integrity Meeting

AGENCY: National Advisory Committee on Institutional Quality and Integrity (NACIQI), Office of Postsecondary Education, U.S. Department of Education.

ACTION: Announcement of an open meeting.

SUMMARY: This notice sets forth the agenda for the December 16, 17, and 18, 2015, meeting of the National Advisory Committee on Institutional Quality and Integrity (NACIQI), and provides information to members of the public on submitting written comments and on requesting to make oral comments at the meeting. The notice of this meeting is required under section 10(a)(2) of the Federal Advisory Committee Act (FACA) and section 114(d)(1)(B) of the Higher Education Act (HEA) of 1965, as amended.

DATES: The NACIQI meeting will be held December 16, 17, and 18, 2015, from 8:30 a.m. to 5:30 p.m. at a location in the Washington DC area to be announced in a later notice.

ADDRESSES: The exact location of the meeting will be published at a later date in the Federal Register and on the Department's Web site at http://www2.ed.gov/about/bdscomm/list/naciqi.html#meetings by November 13, 2015.

SUPPLEMENTARY INFORMATION:

NACIQI's Statutory Authority and Function: The NACIQI is established under section 114 of the Higher Education Act of 1965, as amended (HEA), 20 U.S.C. 1011c. The NACIQI advises the Secretary of Education about:

• The establishment and enforcement of the criteria for recognition of accrediting agencies or associations under subpart 2, part H, title IV of the HEA, as amended.

• The recognition of specific accrediting agencies or associations or a specific State public postsecondary vocational education or nurse education approval agency.

• The preparation and publication of the list of nationally recognized accrediting agencies and associations.

• The eligibility and certification process for institutions of higher education under title IV of the HEA, together with recommendations for improvement in such process.

• The relationship between (1) accreditation of institutions of higher education and the certification and eligibility of such institutions, and (2) State licensing responsibilities with respect to such institutions.

• Any other advisory function relating to accreditation and institutional eligibility that the Secretary may prescribe.

Meeting Agenda: Below is a list of agencies, including their current and requested scopes of recognition, scheduled for review during the December 2015 meeting:

Application for Initial Recognition

Association of Institutions for Jewish Studies Requested scope of recognition: The accreditation of postsecondary institutions of Jewish Studies within the United States exclusively offering educational programs leading to a certificate, associate degree, baccalaureate degree or their equivalent credential in Jewish Studies or Classical Torah Studies.

(The agency does not accredit any institution or program that offers credit for distance education or correspondence education.)

Applications for Renewal of Recognition

1. American Board of Funeral Service Education

Scope of recognition: The accreditation of institutions and programs within the United States awarding diplomas, associate degrees and bachelor's degrees in funeral service or mortuary science, including the accreditation of distance learning courses and programs offered by these programs and institutions.

2. American Speech-Language-Hearing Association, Council on Academic Accreditation in Audiology and Speech—Language Pathology

Scope of recognition: The accreditation and preaccreditation (Accreditation Candidate) throughout the United States of education programs in audiology and speech-language pathology leading to the first professional or clinical degree at the master's or doctoral level, and the accreditation of these programs offered via distance education.

3. Commission on Massage Therapy Accreditation

Scope of recognition: The accreditation of institutions and programs in the United States that award postsecondary certificates, postsecondary diplomas, academic Associate degrees and occupational Associate degrees, in the practice of massage therapy, bodywork, and aesthetics/esthetics and skin care, including components of programs which are offered through distance learning modalities.

4. Council on Naturopathic Medical Education

Scope of recognition: The accreditation and preaccreditation throughout the United States of graduate-level, four-year naturopathic medical education programs leading to the Doctor of Naturopathic Medicine (N.M.D.) or Doctor of Naturopathy (N.D.)

5. Midwifery Education Accreditation Council

Scope of recognition: The accreditation and preaccreditation throughout the United States of direct- entry midwifery educational institutions and programs conferring degrees and certificates, including the accreditation of such programs offered via distance education.

6. Montessori Accreditation Council for Teacher Education

Scope of recognition: The accreditation of Montessori teacher education institutions and programs throughout the United States, including those offered via distance education.

7. National Accrediting Commission of Career Arts and Sciences, Inc.

Scope of recognition: The accreditation throughout the United States of postsecondary schools and departments of cosmetology arts and sciences and massage therapy.

Compliance Reports

1. Accrediting Commission for Education in Nursing (Consideration of relevant and material information not contained in the record pursuant to 34 CFR 602.36(g)(1)(i) and (ii).)

Scope of recognition: Accreditation of nursing education programs and schools, both postsecondary and higher degree, which offer a certificate, diploma, or a recognized professional degree including clinical doctorate, masters, baccalaureate, associate, diploma, and practical nursing programs in the United States and its territories, including those offered via distance education.

2. Council on Accreditation of Nurse Anesthesia Educational Programs

Scope of recognition: The accreditation of institutions and programs of nurse anesthesia at the post master's certificate, master's, or doctoral degree levels in the United States, and its territories, including programs offering distance education.)

3. Northwest Commission on Colleges and Universities

Scope of recognition: The accreditation and preaccreditation (“Candidacy status”) of postsecondary degree-granting educational institutions in Alaska, Idaho, Montana, Nevada, Oregon, Utah, and Washington, and the accreditation of programs offered via distance education within these institutions.

4. Western Association of Schools and Colleges, Accrediting Commission for Community and Junior Colleges

Scope of recognition: The accreditation and preaccreditation (“Candidate for Accreditation”) of two-year, associate degree-granting institutions located in California, Hawaii, the United States territories of Guam and American Samoa, the Republic of Palau, the Federated States of Micronesia, the Commonwealth of the Northern Mariana Islands, and the Republic of the Marshall Islands, including the accreditation of such programs offered via distance education at these colleges.

Requested Scope of Recognition: The accreditation and preaccreditation (“Candidate for Accreditation”) of community and other colleges with a primarily pre-baccalaureate mission located in California, Hawaii, the United States territories of Guam and American Samoa, the Republic of Palau, the Federated States of Micronesia, the Commonwealth of the Northern Mariana Islands, and the Republic of the Marshall Islands, which offer certificates, associate degrees, and the first baccalaureate degree by means of a substantive change review offered by institutions that are already accredited by the agency, and such programs offered via distance education and correspondence education at these colleges. This recognition also extends to the Committee on Substantive Change of the Commission, for decisions on substantive changes, and the Appeals Panel.

State Approval Agency for Public Postsecondary Vocational Education—Applications for Renewal of Recognition

1. New York State Board of Regents (Public Postsecondary Vocational Education)

2. Oklahoma Department of Career & Technology Education

3. Pennsylvania State Board for Vocational Education, Bureau of Career and Technical Education

4. Puerto Rico State Agency for the Approval of Public Postsecondary Vocational, Technical Institutions and Programs

State Approval Agency for Nurse Education—Applications for Renewal of Recognition

1. Kansas State Board of Nursing

2. Maryland Board of Nursing

3. New York State Board of Regents (Nursing Education)

Degree Modification (substantive change notification) for Military Educational Institutions

United States Air Force Institute of Technology, Graduate School of Engineering and Management (request to offer Masters in Operations Management degree at an additional location at Kirtland Air Force Base, Albuquerque, NM).

Pursuant to 10 U.S.C. 9314, the United States Air Force Institute of Technology has submitted a request for modification of existing degree-granting authority to the U.S. Secretary of Education. The NACIQI is the designated review committee for matters concerning degree-granting authority of military educational institutions as outlined in the U.S. Department of Defense Instruction 5545.04 (DoDI 5545.04) and the Federal Policy Governing the Granting of Academic Degrees by Federal Agencies and Institutions (approved by a letter, dated December 23, 1954, from the Director, Bureau of the Budget, to the Secretary for Health, Education, and Welfare). Under DoDI 5545.04, recommendations by the U.S. Secretary of Education regarding substantive change requests submitted by military educational institutions will be included with subsequent notification to the House and Senate Armed Services Committees.

Submission of written comments regarding a specific accrediting agency or state approval agency under review: Written comments about the recognition of a specific accrediting or State agency must be received by September 25, 2015, in the ThirdPartyComments@ed.gov mailbox and include the subject line “Written Comments: (agency name).” The email must include the name(s), title, organization/affiliation, mailing address, email address, and telephone number of the person(s) making the comment. Comments should be submitted as a Microsoft Word document or in a medium compatible with Microsoft Word (not a PDF file) that is attached to an electronic mail message (email) or provided in the body of an email message. Comments about an agency's recognition after review of a compliance report must relate to issues identified in the compliance report and the criteria for recognition cited in the Secretary's letter that requested the report. Comments about the renewal of an agency's recognition based on a review of the agency's petition must relate to its compliance with the Criteria for the Recognition of Accrediting Agencies, or the Criteria and Procedures for Recognition of State Agencies for Approval of Public Postsecondary Vocational Education, as appropriate, which are available at http://www.ed.gov/admins/finaid/accred/index.html. Only material submitted by the deadline to the email address listed in this notice, and in accordance with these instructions, become part of the official record concerning agencies scheduled for review and are considered by the Department and NACIQI in their deliberations. Please do not send material directly to NACIQI members.

Submission of requests to make an oral comment regarding a specific accrediting agency or state approval agency under review: There are two methods the public may use to make a third-party oral comment of three minutes concerning one of the agencies scheduled for review at the December 16,17, and 18, 2015 meeting. Oral comments about agencies undergoing review must relate to the Criteria for Recognition of Accrediting Agencies, or the Criteria and Procedures for Recognition of State Agencies for Approval of Public Postsecondary Vocational Education, as appropriate, which are available at: http://www.ed.gov/admins/finaid/accred/index.html

Method One: Submit a request by email to the ThirdPartyComments@ed.gov mailbox. Please do not send material directly to NACIQI members. Requests must be received by September 25, 2015, and include the subject line “Oral Comment Request: (agency name).” The email must include the name(s), title, organization/affiliation, mailing address, email address, telephone number, of the person(s) requesting to speak, and a brief summary (not to exceed one page) of the principal points to be made during the oral presentation. All individuals submitting an advance request in accordance with this notice will be afforded an opportunity to speak.

Method Two: Register at the meeting location on December 16, 17, or 18, 2015, to make an oral comment during NACIQI's deliberations concerning a particular agency or institution scheduled for review. The requestor must provide his or her name, title, organization/affiliation, mailing address, email address, and telephone number. A total of up to fifteen minutes during each agency review will be allotted for oral commenters who register on December 16, 17, or 18, 2015. Individuals will be selected on a first-come, first-served basis. If selected, each commenter may not exceed three minutes.

The oral comments made will become part of the official record and will be considered by the Department and NACIQI in their deliberations. No individual in attendance or making oral presentations may distribute written materials at the meeting.

Access to Records of the Meeting: The Department will post the official report of the meeting on the NACIQI Web site 90 days after the meeting. Pursuant to the FACA, the public may also inspect the materials at 1990 K Street NW., Washington, DC, by emailing aslrecordsmanager@ed.gov or by calling (202) 502-7696 to schedule an appointment.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: 20 U.S.C. 1011c.

Jamienne S. Studley,
Deputy Under Secretary.

[FR Doc. 2015-22925 Filed 9-10-15; 8:45 am]

BILLING CODE 4000-01-P